DEPARTMENT OF THE INTERIOR

Bureau of Land Management

DEPARTMENT OF ENERGY

Western Area Power Administration

[LLNM930000 L51010000.ER0000 LVRWG11G0790 NMNM124104]

Notice of Intent To Prepare an Environmental Impact Statement for the Proposed Southline Transmission Line Project in New Mexico and Arizona (DOE/EIS-0474) and Possible Land Use Plan Amendments

AGENCY: Bureau of Land Management, U.S. Department of the Interior; Western Area Power Administration, U.S. Department of Energy.

ACTION: Notice of intent.

SUMMARY: In compliance with the National Environmental Policy Act of 1969 (NEPA), as amended, and the Federal Land Policy and Management Act of 1976 (FLPMA), as amended, the Bureau of Land Management (BLM) Las Cruces District Office, Las Cruces, New Mexico, intends to prepare an Environmental Impact Statement (EIS) analyzing the impacts of the proposed Southline Transmission Line Project (Project), a 345-kilovolt (kV) and 230-kV transmission line, and addressing associated potential land use plan amendments. This notice announces the beginning of the scoping process to solicit public comments and identify issues. Western Area Power Administration (Western) is a joint lead agency with BLM for preparing the EIS. Western is a power-marketing agency within the Department of Energy (DOE) and is proposing to participate in the Project with the applicant, Southline Transmission, LLC (Southline).

DATES: This notice initiates a 60-day public scoping process to solicit public comments and identify issues, opportunities, and concerns that should be considered in the preparation of a Draft EIS. During the scoping process, the BLM will also evaluate the need for any land use plan amendments to any of the affected Resource Management Plans (RMPs). The scoping period will end on June 4, 2012, or 15 days after the date of the last public scoping meeting, whichever is later. In order to ensure consideration in the Draft EIS, all comments must be received prior to the close of the scoping period. The BLM and Western will provide additional opportunities for public participation upon publication of the Draft EIS. The public will be notified in advance of future opportunities for participation as the EIS is prepared.

To provide the public with an opportunity to review the proposal and project information, the BLM and Western expect to hold six public meetings at various locations in New Mexico and Arizona during the public scoping period. The BLM will announce public scoping meetings through local news media, newsletters, and posting on the BLM Web site at http://www.blm.gov/nm/southline at least 15 days prior to each meeting.

ADDRESSES: Comments related to the proposed Project may be submitted by any of the following methods:

Web site: http://www.blm.gov/nm/southline.

Fax: (575) 525-4412.

Mail: BLM, Las Cruces District Office, Southline Transmission Project, Attention: Frances Martinez, Realty Specialist, 1800 Marquess Street, Las Cruces, New Mexico 88005.

Email: fmartine@blm.gov.

Documents pertinent to this proposal may be examined at the Las Cruces District Office or on the above Web site.

FOR FURTHER INFORMATION CONTACT: Tom Hurshman, BLM National Project Manager; telephone (970) 240-5345; email: thurshma@blm.gov.

For information about Western's involvement, contact Mark Wieringa, Western NEPA Document Manager; telephone (800) 336-7288 or (720) 962-7448; email: wieringa@wapa.gov. For general information on DOE NEPA (42 U.S.C. 4321-4347) review procedures or on the status of a NEPA review, contact Carol M. Borgstrom, Director of NEPA Policy and Compliance, GC-54, U.S. Department of Energy, 1000 Independence Avenue SW., Washington, DC 20585-0119, telephone (202) 586-4600 or toll free at (800) 472-2756, fax (202) 586-7031.

People who use a telecommunications device for the deaf (TDD) may call the Federal Information Relay Service (FIRS) at (800) 877-8339 during normal business hours to contact the BLM Project Manager listed above. The FIRS is available 24 hours a day, 7 days a week, to leave a message or question for the above individual. You will receive a reply during normal business hours.

SUPPLEMENTARY INFORMATION: Southline has filed a right-of-way (ROW) application with the BLM pursuant to Title V of FLPMA proposing to construct, operate, maintain, and eventually decommission a high-voltage, alternating current electric transmission line. The proposed Project would consist of two segments. The first segment would be the construction of a new double-circuit 345-kV transmission line linking existing substations at Afton (located south of Las Cruces, New Mexico) and Apache (located south of Willcox, Arizona). This segment is approximately 225 miles long and would enable up to 1,500 megawatts (MW) of transmission capacity. The second segment is an upgrade and rebuild of approximately 130 miles of existing transmission line, providing up to 1,000 MW of increased transmission capacity between the Apache Substation and the Saguaro Substation (located northwest of Tucson, Arizona). New permanent and temporary ROW would be required for this segment. Existing transmission lines that have been identified as feasible for upgrades in this area include a Western 115-kV line and a Southwest Transmission Cooperative, Inc. 115-kV line. Approximately 40 percent of the proposed transmission line would be on public land, 30 percent would be on State land, and the remaining 30 percent would be on private land. A 0.5-mile-long portion of the rebuild segment crosses land administered by the U.S. Forest Service and 2 miles of the rebuild segment cross tribal lands of the Tohono O'odham Nation.

The transmission lines may be supported by lattice steel structures or tubular steel pole structures. Any final decision on a specific type of structure will be based on topography, structural requirements, economics, the environment, and other applicable considerations. The structures are anticipated to be constructed of galvanized steel with a height ranging from 110 to 170 feet, with an average height of 130 to 140 feet. The width of the span at the top will be approximately 40 to 60 feet. The distance between each structure would depend on site-specific characteristics but is expected to be approximately 800 to 1,500 feet, with an average of 1,000 feet for lattice steel structures and 1,200 feet for tubular steel structures. Each structure would be set on concrete foundations set into the ground. The expected permanent disturbed area per structure would be approximately 200 square feet.

The proposed Project would involve additional facilities, including the construction of one new substation in the vicinity of Columbus, New Mexico, to facilitate anticipated renewable energy generation in the area. Access roads, including improvements to existing roads, new overland access, and new unpaved roads, would be developed during construction of the line and then used for inspection and maintenance during operation. A fiber-optic telecommunication system would be included in the transmission design. Additional temporary work sites, including wire splicing and pulling sites as well as construction yards, will also be analyzed. The requested ROW width on public lands is 250 feet.

As part of its agency mission, Western routinely studies power system requirements, plans for transmission line upgrades and additions, facilitates and finances transmission projects, and constructs, owns, operates, and maintains transmission infrastructure. Such projects may be solely Western projects, or may be projects undertaken with the participation of others. Southline is proposing to upgrade approximately 130 miles of Western's existing transmission line between Saguaro and Apache substations as part of its proposed Project. Western is evaluating to what extent it will participate in the proposed Project.

Actions that result in a change in the scope of resource uses, terms and conditions, and decisions of Federal agency land use plans may require an amendment to those plans. Approval of this proposal may result in the amendment(s) of three BLM RMPs. As required by 43 CFR 1610.2(c), the BLM notifies the public of potential amendments to the following RMPs: Phoenix RMP, 1988, Safford District RMP, 1991, and Mimbres RMP, 1993. Any authorizations and actions proposed for approval in the EIS will be evaluated to determine if they conform to the decisions in the referenced land use plans. If amendments are needed, the BLM would integrate the land-use planning process as described in 43 CFR 1610 into the EIS as they proceed with NEPA review of the proposed Project. If the BLM determines that plan amendments are necessary, compliance with NEPA for any land use plan amendments would occur simultaneously with the consideration of the proposed Project.

In accordance with NEPA, DOE NEPA Implementing Procedures (10 CFR part 1021), and Council on Environmental Quality regulations for implementing NEPA (40 CFR parts 1500-1508),¹ the BLM and Western will prepare an EIS on their Federal actions and the proposed project. The BLM and Western are joint lead agencies for this EIS as defined in 40 CFR 1501.5. Agencies with jurisdiction by law or special expertise will be invited to participate as cooperating agencies in preparation of the EIS. Federal, State, and local agencies, and Indian tribes, along with other stakeholders that may be interested or affected by the BLM's and Western's decisions on this Project, are invited to participate in the scoping process and, if eligible, may request or be requested by the BLM and Western to participate as a cooperating agency.

¹ On November 16, 2011, DOE's Acting General Counsel delegated to Western's Administrator all EIS authorities.

During the public scoping period, the BLM and Western will solicit public comments on behalf of all cooperating agencies regarding issues, concerns, and opportunities that should be considered in the analysis of the proposed action. Comments on issues and potential impacts, or suggestions for additional or different alternatives may be submitted to the addresses listed in the ADDRESSES section.

Public scoping will help determine relevant issues that can influence the scope of the environmental analysis, alternatives, and the process for developing the EIS. The BLM and Western, along with other agencies, cooperators, and individuals, have preliminarily identified the following issues that will be addressed in the EIS:

• Social and economic effects of the Project on local communities and infrastructure;

• Potential public health and safety impacts resulting from construction-related traffic and electromagnetic fields;

• Potential interference with the Fort Huachuca Electronic Proving Ground;

• Loss of habitat and direct disturbance to plant and animal species (including special and sensitive status species);

• Impacts to cultural resources, lands that contain places of traditional cultural or religious importance, and historic sites;

• New visual intrusions on the landscape that would degrade the scenic and visual quality of the area;

• Proximity of the Project to lands with wilderness characteristics;

• Impacts to National Scenic or Historic Trails, and;

• Potential impacts to military flight paths and areas used for military maneuvers.

This list is not intended to be all-inclusive or imply any predetermination of impacts.

Public meetings will be held during the scoping period. BLM, Western, and Southline staff will be available at the public meetings to explain the details of the proposed Project and to gather information from interested individuals or groups. The BLM, Western, and cooperating agencies will also provide additional opportunities for public participation upon publication of the Draft EIS.

The BLM and Western will use and coordinate the Draft EIS public review and comment period to assist the agencies in satisfying the public involvement requirements under Section 106 of the National Historic Preservation Act (NHPA) (16 U.S.C. 470(f)), as provided for in 36 CFR 800.2(d)(3). Information about historic and cultural resources within the area potentially affected by the proposed project will assist the BLM and Western in identifying and evaluating impacts to such resources in the context of both NEPA and Section 106 of the NHPA. Consultation with American Indian tribes will be conducted in accordance with applicable policies; tribal concerns, including impacts on Indian trust assets, will be given due consideration.

Before including addresses, phone numbers, email addresses, or other personal identifying information in comments, commenters should be aware that entire comments—including personal identifying information—may be made publicly available at any time. Requests may be made that personal identifying information be withheld from public review; however, the BLM and Western cannot guarantee that they will be able to do so.

Authority: 40 CFR 1501.7; 43 CFR 1610.2.

William W. Merhege,
Deputy State Director, Resources, Bureau of Land Management, New Mexico.
Timothy J. Meeks,
Administrator, Western Area Power Administration.

[FR Doc. 2012-8094 Filed 4-3-12; 8:45 am]

BILLING CODE 4310-FB-P